INTERNATIONAL TRADE COMMISSION

[Investigation Nos. 701-TA-690-691, 731-TA-1619-1625 and 731-TA-1627 (Final)]

Paper Shopping Bags From Cambodia, China, Colombia, India, Malaysia, Portugal, Taiwan, and Vietnam

Determinations

On the basis of the record ¹ developed in the subject investigations, the United States International Trade Commission (“Commission”) determines, pursuant to the Tariff Act of 1930 (“the Act”), that an industry in the United States is materially injured by reason of imports of paper shopping bags from Cambodia, China, Colombia, India, Malaysia, Portugal, Taiwan, and Vietnam, provided for in subheadings 4819.30.00 and 4819.40.00 of the Harmonized Tariff Schedule of the United States, that have been found by the U.S. Department of Commerce (“Commerce”) to be sold in the United States at less than fair value (“LTFV”) and subsidized by the Governments of China and India.2 3

¹ The record is defined in § 207.2(f) of the Commission's Rules of Practice and Procedure (19 CFR 207.2(f)).

² 89 FR 45829, 89 FR 45834 (May 24, 2024), 89 FR 45841, 89 FR 45823, 89 FR 45843, 89 FR 45826, 89 FR 45821, 89 FR 45845, 89 FR 45832, 89 FR 45839, (May 24, 2024).

³ The Commission also finds that imports subject to Commerce's affirmative critical circumstances determinations are not likely to undermine seriously the remedial effect of the countervailing duty orders on paper shopping bags from China and India, or the antidumping duty orders on paper shopping bags from Cambodia, China, Taiwan and Vietnam.

Background

The Commission instituted these investigations effective May 31, 2023, following receipt of petitions filed with the Commission and Commerce by the Coalition for Fair Trade in Shopping Bags, a coalition whose members include Novolex Holdings, LLC, Charlotte, North Carolina, and the United Steel, Paper and Forestry, Rubber, Manufacturing, Energy, Allied Industrial and Service Workers International Union, Pittsburgh, Pennsylvania. The Commission scheduled the final phase of the investigations following notification of preliminary determinations by Commerce that imports of paper shopping bags from China and India were being subsidized within the meaning of section 703(b) of the Act (19 U.S.C. 1671b(b)) and imports of paper shopping bags from Cambodia, China, Colombia, India, Malaysia, Portugal, Taiwan, and Vietnam were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of January 18, 2024 (89 FR 3424). The Commission conducted its hearing on March 14, 2024.

The investigation schedules became staggered when Commerce did not postpone its final determination for the antidumping duty investigation regarding paper shopping bags from Turkey, while it did postpone the final determinations for the countervailing duty investigations regarding paper shopping bags from China and India, and the antidumping duty investigations regarding paper shopping bags from Cambodia, China, Colombia, India, Malaysia, Portugal, Taiwan, and Vietnam. On May 2, 2024, the Commission issued a final affirmative determination in its antidumping duty investigation of paper shopping bags from Turkey (89 FR 38916). Following notification of final determinations by Commerce that imports of paper shopping bags from Cambodia, China, Colombia, India, Malaysia, Portugal, Taiwan, and Vietnam were being sold at LTFV within the meaning of section 735(a) of the Act (19 U.S.C. 1673d(a)) and subsidized by the governments of China and India within the meaning of section 705(a) of the Act (19 U.S.C. 1671d(a)), notice of the supplemental scheduling of the final phase of the Commission's countervailing and antidumping duty investigations was given by posting copies of the notice in the Office of the Secretary, U.S. International Trade Commission, Washington, DC, and by publishing the notice in the Federal Register of June 3, 2024 (89 FR 47613).

The Commission made these determinations pursuant to §§ 705(b) and 735(b) of the Act (19 U.S.C. 1671d(b) and 19 U.S.C. 1673d(b)). It completed and filed its determinations in these investigations on July 5, 2024. The views of the Commission are contained in USITC Publication 5522 (July 2024), entitled Paper Shopping Bags from Cambodia, China, Colombia, India, Malaysia, Portugal, Taiwan, and Vietnam: Investigation Nos. 701-TA-690-691, 731-TA-1619-1625 and 731-TA-1627 (Final).

By order of the Commission.
Issued: July 5, 2024.
Lisa Barton,
Secretary to the Commission.

[FR Doc. 2024-15181 Filed 7-9-24; 8:45 am]

BILLING CODE 7020-02-P